DEPARTMENT OF COMMERCE

International Trade Administration

[A-570-504]

Petroleum Wax Candles From the People's Republic of China: Final Results of the 2004-2005 Antidumping Duty Administrative Review

AGENCY: Import Administration, International Trade Administration, Department of Commerce.

SUMMARY: On June 21, 2006, the Department of Commerce (“the Department”) published in the Federal Register the preliminary results of the administrative review of the antidumping duty order on petroleum wax candles (“candles”) from the People's Republic of China (“PRC”). See Petroleum Wax Candles from the People's Republic of China: Preliminary Results of the 2004-2005 Administrative Review, 71 FR 35613 (June 21, 2006) (“Preliminary Results”). We gave interested parties an opportunity to comment on the Preliminary Results, but we did not receive any comments. Therefore, we made no changes to the dumping margin calculations for these final results.

DATES: Effective Date: October 24, 2006.

FOR FURTHER INFORMATION CONTACT: Alex Villanueva or Cindy Lai Robinson, AD/CVD Operations, Office 9, Import Administration, International Trade Administration, U.S. Department of Commerce, 14th Street and Constitution Avenue, NW., Washington, DC 20230; telephone: (202) 482-3208 or (202) 482-3797, respectively.

SUPPLEMENTARY INFORMATION:

Case History

The Preliminary Results in this administrative review were published on June 21, 2006. See Preliminary Results. This administrative review covers one manufacturer/exporter of subject merchandise: Qingdao Youngson Industrial Co., Ltd. (“Youngson”), “the Respondent.” The Petitioner is the National Candle Association (“NCA”).

Period of Review

The period of review (“POR”) covers August 1, 2004, through July 31, 2005.

Scope of the Antidumping Duty Order ¹

¹ See Antidumping Duty Order: Petroleum Wax Candles From the People's Republic of China, 51 FR 30686 (August 28, 1986) (“the Order”).

The products covered by the Order are certain scented or unscented petroleum wax candles made from petroleum wax and having fiber or paper-cored wicks. They are sold in the following shapes: Tapers, spirals, and straight-sided dinner candles; round, columns, pillars, votives; and various wax-filled containers. The products were classified under the Tariff Schedules of the United States (“TSUS”) 755.25, Candles and Tapers. The products covered are currently classified under the Harmonized Tariff Schedule of the United States (“HTSUS”) item 3406.00.00. Although the HTSUS subheading is provided for convenience purposes, our written description remains dispositive. See the Order and Notice of Final Results of the Antidumping Duty New Shipper Review: Petroleum Wax Candles from the People's Republic of China, 69 FR 77990 (December 29, 2004).

Separate Rates

Youngson has requested a separate, company-specific antidumping duty rate. In the Preliminary Results, we determined that Youngson's untimely withdrawal from the current administrative review on March 31, 2006, which was 94 days after the Department's established deadline, left certain critical data potentially relevant to separate rates still outstanding. Youngson's untimely withdrawal prevented the Department from conducting a thorough separate rates analysis or from verifying Youngson's information. Therefore, we found that Youngson has not demonstrated that it is entitled to a separate rate, and it is deemed to be included in the PRC-wide entity and would be assigned the PRC-wide entity rate. See Preliminary Results, 71 FR at 35614. For these final results, we continue to find that Youngson has not demonstrated its entitlement to a separate rate.

Analysis of Comments Received

No interested parties submitted any comments for these final results.

Changes Since the Preliminary Results

We made no changes to the Preliminary Results.

Final Results of the Review

In the Preliminary Results, we based the dumping margin for Youngson on total adverse facts available (“AFA”) for Youngson's sales of merchandise subject to the Order pursuant to sections 776(a)(2), and 776(b) of the Tariff Act of 1930, as amended (“the Act”). See Preliminary Results, 71 FR at 35614-15.

In addition, we continue to find that Youngson is not entitled to a separate rate and is part of the PRC-wide entity, which is under review. As the PRC-wide entity, in this instance, was uncooperative, we continue to find it appropriate to assign an antidumping duty margin for the PRC-wide entity based on total AFA pursuant to section 776(b) of the Act. As a result, Youngson continues to receive the 108.30 percent, PRC-wide entity rate. A complete explanation of the selection, corroboration, and application of AFA can be found in the Preliminary Results. See Preliminary Results, 71 FR at 35615.

The weighted-average dumping margin for the POR is as follows:

Petroleum Wax Candles From the PRC
Manufacturer/exporter | Weighted- average margin (percent)
PRC-wide Entity (including Qingdao Youngson Industrial Co., Ltd.) | 108.30

Cash Deposit Requirements

The following deposit requirements will be effective upon publication of the final results of this administrative review for all shipments of petroleum wax candles from the PRC entered, or withdrawn from warehouse, for consumption on or after the publication date of this notice, as provided for by section 751(a)(1) of the Act: (1) For any previously reviewed or investigated PRC or non-PRC exporter, not covered in this review, with a separate rate, the cash deposit rate will be the company-specific rate established in the most recent segment of those proceedings; (2) for all other PRC exporters, the cash deposit rate will be the PRC-wide rate indicated above; and (3) the cash deposit rate for any non-PRC exporter of subject merchandise from the PRC who does not have its own rate will be the rate applicable to the PRC exporter that supplied the non-PRC exporter. These deposit requirements, when imposed, shall remain in effect until publication of the final results of the next administrative review.

Assessment Rates

Normally, the Department will issue appraisement instructions directly to U.S. Customs and Border Protection (“CBP”) within 15 days of publication of the final results of this administrative review. On September 29, 2006, the Department issued the final determination on a concurrent later-developed merchandise anticircumvention inquiry on petroleum wax candles from the PRC. See Later-Developed Merchandise Anticircumvention Inquiry of the Antidumping Duty Order on Petroleum Wax Candles from the People's Republic of China: Affirmative Preliminary Determination of Circumvention of the Antidumping Duty Order, 71 FR 59075 (October 6, 2006) (“Final Anticircumvention Determination”). Candles subject to the Final Anticircumvention Determination are candles which contain any amount of petroleum wax. Prior to the Final Anticircumvention Determination and at the time the Department began this administrative review, however, the Department considered candles containing less than 50 percent petroleum wax to be outside the scope of Order. However, given the Department 's affirmative Final Anticircumvention Determination, a candle containing any amount of petroleum wax will now be considered subject to antidumping duties. As such, following the Final Anticircumvention Determination, the Department instructed CBP to suspend liquidation of entries of candles containing any amount of petroleum wax beginning February 25, 2005. For this POR, the Department will instruct CBP to liquidate all suspended entries of subject merchandise from the PRC-wide entity, including Youngson, at 108.30 percent. This will include those mixed-wax candles composed of petroleum wax and more than 50 percent or more palm and/or other vegetable oil-based waxes subject to the Final Anticircumvention Determination that entered between February 25, 2005 and July 31, 2005.

Reimbursement of Duties

This notice also serves as a final reminder to importers of their responsibility under 19 CFR 351.402(f) to file a certificate regarding the reimbursement of antidumping duties prior to liquidation of the relevant entries during this POR. Failure to comply with this requirement could result in the Secretary's presumption that reimbursement of antidumping duties occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a) and 777(i) of the Act.

Dated: October 18, 2006.
David M. Spooner,
Assistant Secretary for Import Administration.

[FR Doc. E6-17888 Filed 10-24-06; 8:45 am]

BILLING CODE 3510-DS-P